DEPARTMENT OF ENERGY

Federal Energy Regulatory Commission

[Docket No. EL17-22-000]

Independent Market Monitor for PJM v. American Electric Power Service Corp.; Notice of Complaint

Take notice that on November 30, 2016, Independent Market Monitor for PJM (Complainant or PJM) filed a complaint against American Electric Power Service Corp. (Respondent or AEP). PJM complains that AEP refused to provide certain information in response to information requests sent by PJM's Market Monitor Unit and request that the Commission issue an order directing AEP to provide the information, all as more fully explained in the complaint.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 5 copies of the protest or intervention to the Federal Energy Regulatory Commission, 888 First Street NE., Washington, DC 20426.

This filing is accessible on-line at http://www.ferc.gov, using the “eLibrary” link and is available for electronic review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on December 20, 2016.

Dated: November 30, 2016.
Kimberly D. Bose,
Secretary.

[FR Doc. 2016-29224 Filed 12-5-16; 8:45 am]

BILLING CODE 6717-01-P